DEPARTMENT OF EDUCATION

National Institute on Disability and Rehabilitation Research (NIDRR)—Disability and Rehabilitation Research Projects and Centers Program—Rehabilitation Research and Training Centers (RRTCs)—Employer Practices Related to Employment Outcomes Among Individuals With Disabilities

Catalog of Federal Domestic Assistance (CFDA) Number: 84.133B-3.

AGENCY: Office of Special Education and Rehabilitative Services, Department of Education.

ACTION: Notice of proposed priority.

SUMMARY: The Assistant Secretary for Special Education and Rehabilitative Services proposes a funding priority for the Disability and Rehabilitation Research Projects and Centers Program administered by NIDRR. Specifically, this notice proposes a priority for RRTCs on Employer Practices Related to Employment Outcomes Among Individuals with Disabilities. The Assistant Secretary may use this priority for competitions in fiscal year (FY) 2010 and later years. We take this action to focus research attention on areas of national need. We intend this priority to improve rehabilitation services and outcomes for individuals with disabilities.

DATES: We must receive your comments on or before February 16, 2010.

ADDRESSES: Address all comments about this notice to Donna Nangle, U.S. Department of Education, 400 Maryland Avenue, SW., room 6029, Potomac Center Plaza (PCP), Washington, DC 20202-2700.

If you prefer to send your comments by e-mail, use the following address: donna.nangle@ed.gov. You must include the term “Proposed Priority for an RRTC on Employer Practices Related to Employment Outcomes Among Individuals with Disabilities” in the subject line of your electronic message.

FOR FURTHER INFORMATION CONTACT: Donna Nangle. Telephone: (202) 245-7462 or by e-mail: donna.nangle@ed.gov.

If you use a telecommunications device for the deaf (TDD), call the Federal Relay Service (FRS), toll free, at 1-800-877-8339.

SUPPLEMENTARY INFORMATION: This notice of proposed priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

This notice proposes a priority that NIDRR intends to use for RRTC competitions in FY 2010 and possibly later years. However, nothing precludes NIDRR from publishing additional priorities, if needed. Furthermore, NIDRR is under no obligation to make an award for this priority. The decision to make an award will be based on the quality of applications received and available funding.

Invitation to Comment

We invite you to submit comments regarding this notice. To ensure that your comments have maximum effect in developing the notice of final priority, we urge you to clearly identify the specific topic that each comment addresses.

We invite you to assist us in complying with the specific requirements of Executive Order 12866 and its overall requirement of reducing regulatory burden that might result from this proposed priority. Please let us know of any further ways we could reduce potential costs or increase potential benefits while preserving the effective and efficient administration of the program.

During and after the comment period, you may inspect all public comments about this notice in room 6029, 550 12th Street, SW., PCP, Washington, DC, between the hours of 8:30 a.m. and 4:00 p.m., Washington, DC, time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Project and Centers Program is to plan and conduct research, demonstration projects, training, and related activities, including international activities, to develop methods, procedures and rehabilitation technology that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (72 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants also must demonstrate in their applications how they will address, in whole or in part, the needs of individuals with disabilities from minority backgrounds.

Program Authority: 29 U.S.C. 762(g) and 764(b)(2).

Applicable Program Regulations: 34 CFR part 350.

Proposed Priority: This notice contains one proposed priority.

Employer Practices Related to Employment Outcomes Among Individuals With Disabilities

Background

Individuals with disabilities experience lower rates of employment than those without disabilities, and this disparity in employment rates is seen across all sociodemographic groups (Steinmetz, 2006; U.S. Census Bureau, 2006; U.S. Department of Labor, 2009).

This disparity in employment rates, as well as differences in other aspects of employment (e.g., retention rates, job satisfaction, wages), appear to reflect, at least in part, differences in employer practices related to hiring, promoting, and retaining employees who have or acquire disabilities (U.S. Department of Labor, 2009). While it is difficult to obtain employer-level information, there is some recent evidence regarding the relationship between employer practices and outcomes for individuals with disabilities. In 2008, the Office of Disability Employment Policy of the U.S. Department of Labor funded an employer survey that examined employer practices related to hiring, advancing, and retaining employees with disabilities (U.S. Department of Labor, 2009). The study indicated that companies reporting that they actively recruit employees with disabilities differ from other companies in several domains. For example, companies that recruited individuals with disabilities were generally less likely than others to identify challenges in hiring individuals with disabilities (e.g., accommodation costs, nature of the work, concern about health care costs) and were more likely to identify strategies that were helpful in recruiting employees with disabilities (e.g., developing a targeted recruitment program, visible top management commitment, providing flexible work schedules). In addition, companies that reported actively recruiting employees with disabilities were less likely to have identified the following concerns regarding hiring individuals with disabilities: That employing workers with disabilities increased the cost of doing business, that workers with disabilities lack relevant skills and experience, and that employees with disabilities posed greater risks to safety and productivity.

Analysis of the responses revealed that employer characteristics, including company size, sector of the economy, and industry type, were related to the employers' responses. Larger employers and employers in the public sector were more likely than other employers to report employing individuals with disabilities and actively recruiting applicants with disabilities. Larger companies were also more likely to report having hired employees with disabilities within the last 12 months. Smaller and medium-sized companies were more likely to report that health care costs, workers compensation costs, and fear of litigation were challenges in hiring individuals with disabilities. When asked about concerns related to hiring employees with disabilities, smaller and medium-sized companies were more likely to cite concerns about costs of employing individuals with disabilities and the belief that workers with disabilities lack relevant skills and experience. In contrast, larger companies were more concerned about supervisors' uncertainty regarding how to take disciplinary action against employees with disabilities. When questioned about perceived challenges to retaining employees with disabilities, smaller companies expressed greater concerns about the cost of health care coverage and workers compensation.

Responses also varied by organization type. Companies in construction, goods-producing, and retail trades were more likely than others to indicate that the nature of the work was a challenge in hiring individuals with disabilities. Public organizations were more likely than private sector agencies to report that they actively recruited employees with disabilities.

The results of this study suggest that organizations of different sizes, and from different industries and sectors of the economy, differ in employer practices with regard to individuals with disabilities. However, these findings are largely based on the attitudes, opinions or perceptions of employers, rather than on objectively measured employer practices and employment outcomes. Building upon these findings by obtaining empirical data about actual employer practices, and further investigating the extent to which these practices are associated with employment for individuals with disabilities, would inform the development of interventions to improve the number and diversity of employment opportunities for individuals with disabilities.

References

Steinmetz, E. (2006). Americans With Disabilities: 2002. Household Economic Studies Current Population Reports P70-107 Washington, DC: U.S. Census Bureau. See http://www.census.gov/hhes/www/disability/sipp/disable02.html.

U.S. Census Bureau (2006). American Community Survey table B1802: Selected Economic Characteristics for the Civilian Noninstitutionalized Population By Disability Status. Washington, DC: U.S. Census Bureau. See http://factfinder.census.gov/servlet/STTable?_bm=y&-qr_name=ACS_2006_EST_G00_S1802&-geo_id=01000US&-ds_name=ACS_2006_EST_G00_&-_lang=en&-format=&-CONTEXT=st.

U.S. Department of Labor (2009). Survey of Employer Perspectives on the Employment of People with Disabilities. See http://www.dol.gov/odep/categories/research/index.htm.

U.S. Department of Labor (2009). Labor force statistics from the Current Population Survey: Employment status and disability status, January 2009. See http://www.bls.gov/cps/cpsdisability_012009.htm.

Proposed Priority

The Assistant Secretary for Special Education and Rehabilitative Services proposes a priority for a Rehabilitation Research and Training Center (RRTC) on Employer Practices Related to Employment Outcomes Among Individuals with Disabilities. This RRTC must conduct research that contributes to our knowledge about the differences that exist in employer practices towards hiring individuals with disabilities and the relationship between different practices and employment outcomes for individuals with disabilities. This new knowledge will contribute to more targeted interventions to improve employer practices related to the employment of individuals with disabilities. Under this priority, the RRTC must contribute to the following outcomes:

(a) New knowledge of specific employer practices most strongly associated with desired employment outcomes for individuals with disabilities and the prevalence of these practices. The RRTC must contribute to this outcome by identifying and categorizing employer practices related to the hiring, retention, and advancement of individuals with disabilities and conducting research on the extent to which employers engage in specific practices that have been found in relevant research to promote positive employment outcomes for individuals with disabilities. Factors that are associated with such practices include, but are not limited to: employer size, geographic regions, sector of industry or the economy (e.g., private sector, public sector, goods-producing, service-producing), employer preconceptions, and experience working with vocational rehabilitation agencies.

(b) Increased knowledge about how these practices relate to employer success in hiring, retention, and promotion of individuals with disabilities. Applicants must propose strategies to collect information about these practices and outcomes directly from employers, taking into account that it can be difficult to collect information about employer practices and outcomes. In addition, applicants are encouraged to use existing databases such as those maintained by the Equal Employment Opportunity Commission, the Small Business Administration, the Office of Federal Contract Compliance Programs, and disability insurance providers.

(c) Increased incorporation of findings into practice and policy. The RRTC must contribute to this outcome by:

(1) Collaborating with employer groups to develop, evaluate, or implement strategies to increase utilization of positive practices identified by the RRTC.

(2) Conducting training and dissemination activities to facilitate the utilization of research findings in employment and policy settings.

In addition, this RRTC must collaborate with:

(1) Relevant Rehabilitation Services

Administration grantees, such as the 10 regional Technical Assistance and Continuing Education projects.

(2) Relevant grantees and programs in the Department of Labor, including the Office of Disability Employment Policy's National Technical Assistance, Policy, and Research Center for Employers.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering this program effectively and efficiently.

In assessing the potential costs and benefits—both quantitative and qualitative—of this proposed regulatory action, we have determined that the benefits of the proposed priority justify the costs.

Discussion of Costs and Benefits

The benefits of the Disability and Rehabilitation Research Projects and Centers Programs have been well established over the years in that similar projects have been completed successfully. This proposed priority will generate new knowledge through research and development activities.

Another benefit of this proposed priority is that the establishment of a new RRTC will support the research and will improve the lives of individuals with disabilities. The new RRTC will generate, disseminate, and promote the use of new information that will improve the options for individuals with disabilities to obtain, retain, and advance in employment.

Intergovernmental Review

This program is not subject to Executive Order 12372 and the regulations in 34 CFR part 79.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site.

Note: The official version of this document is the document published in the Federal Register. Free Internet access to the official edition of the Federal Register and the Code of Federal Regulations is available on GPO Access at: http://www.gpoaccess.gov/nara/index.html.

Dated: January 8, 2010.
Alexa Posny,
Assistant Secretary for Special Education and Rehabilitative Services.

[FR Doc. 2010-480 Filed 1-13-10; 8:45 am]

BILLING CODE 4000-01-P